FEDERAL COMMUNICATIONS COMMISSION

47 CFR Part 9

[FRS 16536]

Wireless E911 Location Accuracy Requirements

AGENCY: Federal Communications Commission.

ACTION: Petition for reconsideration.

SUMMARY: The Boulder Emergency Telephone Service Authority, on December 26, 2019, filed a Petition for Reconsideration in the Commission's Wireless E911 Location Accuracy rulemaking proceeding.

DATES: Oppositions to the Petition must be filed on or before March 25, 2020. Replies to the opposition must be filed on or before April 6, 2020.

ADDRESSES: Federal Communications Commission, 445 12th Street SW, Washington, DC 20554.

FOR FURTHER INFORMATION CONTACT: John Evanoff, Public Safety and Homeland Security Bureau, Policy and Licensing Division, at john.evanoff@fcc.gov, or (202) 418-0848.

SUPPLEMENTARY INFORMATION: This is a summary of the Commission's document, released on February 26, 2020. The full text of this document is available for viewing and copying at the FCC Reference Information Center, 445 12th Street SW, Room CY-A257, Washington, DC 20554. The full text of this document is also available online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject. Wireless E911 Location Accuracy Requirements, Report and Order, FCC 19-124, published at 85 FR 2660, January 16, 2020, in PS Docket No 07-114. This document is being published pursuant to 47 CFR 1.429(e). See also 47 CFR 1.4(b)(1) and 1.429(f), (g).

Number of Petitions filed: 1.

Federal Communications Commission.
Marlene Dortch,
Secretary, Office of the Secretary.

[FR Doc. 2020-04554 Filed 3-9-20; 8:45 am]

BILLING CODE 6712-01-P